DEPARTMENT OF DEFENSE

Department of the Army, Corps of Engineers

Policy and Procedural Guidance for Processing Requests To Alter U.S. Army Corps of Engineers Civil Works Projects

AGENCY: U.S. Army Corps of Engineers, DoD.

ACTION: Notice.

SUMMARY: The U.S. Army Corps of Engineers (USACE) has issued an Engineer Circular to provide guidance related to how USACE will process requests by others to alter a USACE civil works project. This notice announces the availability of that guidance.

ADDRESSES: Headquarters, USACE, Engineering and Construction Division, 441 G Street NW., Washington, DC 20314-1000.

FOR FURTHER INFORMATION CONTACT: Ms. Tammy Conforti, Levee Safety Program Manager, Headquarters, USACE, at 202-761-4649.

SUPPLEMENTARY INFORMATION: Section 14 of the Rivers and Harbors Appropriations Act of 1899, as amended, codified in 33 U.S.C. 408 (Section 408) authorizes the Secretary of the Army, on the recommendation of the Chief of Engineers of the U.S. Army Corps of Engineers (USACE), to grant permission for the alteration, occupation, or use of a federally authorized project upon a determination by the Secretary that the activity will not be injurious to the public interest and will not impair the usefulness of the project. USACE has issued Engineer Circular (EC) 1165-2-216, titled Policy and Procedural Guidance for Processing Requests to Alter U.S. Army Corps of Engineers Civil Works Projects Pursuant to 33 U.S.C. 408, to provide guidance related to how USACE will process requests by others to alter a USACE civil works project.

The intent of EC 1165-2-216 is to provide procedures that are scalable and commensurate to the proposed alternation. The EC contains procedural information on environmental compliance; review and approval requirements; and post-approval requirements. The EC applies only to alterations within the lands and real property interests identified for the USACE civil works project. For USACE civil works projects with non-federal sponsors, the EC recognizes their role by requiring direct engagement and/or concurrence on proposed alterations. The appendices of the EC contain supplemental information for proposed alterations for dams, hydropower facilities, levee systems, channel projects, and navigation features.

For more information on the Section 408 process and to view EC 1165-2-216, please visit the USACE Civil Works Web site at http://www.usace.army.mil/Missions/CivilWorks. EC 1165-2-216 can also be found on the USACE publication Web site at http://www.publications.usace.army.mil/.

Dated: July 31, 2014.
James C. Dalton,
Chief, Engineering and Construction, Directorate of Civil Works.

[FR Doc. 2014-18593 Filed 8-5-14; 8:45 am]

BILLING CODE 3720-58-P.